DEPARTMENT OF HEALTH AND HUMAN SERVICES

Centers for Disease Control and Prevention

[60-Day 13-0650]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Ron Otten, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Prevention Research Centers Program National Evaluation Reporting System (OMB No. 0920-0650, exp. 6/30/2013)—Revision—National Center for Chronic Disease Prevention and Health Promotion (NCCDPHP), Centers for Disease Control and Prevention (CDC).

Background and Brief Description

The Prevention Research Centers (PRC) Program was established by Congress through the Health Promotion and Disease Prevention Amendments of 1984. CDC manages the PRC Program and currently provides funding to PRC grantees that are housed within schools of public health, medicine or osteopathy. Awards are made for five years and may be renewed through a competitive application process. PRCs conduct outcomes-oriented health promotion and disease prevention research on a broad range of topics using a multi-disciplinary and community-based approach. Research projects involve state and local health departments, health care providers, universities, community partners, and other organizations. PRCs collaborate with external partners to assess community health priorities; identify research priorities; set research agendas; conduct research projects and related activities such as training and technical assistance; and disseminate research results to public health practitioners, researchers, and the general public. Each PRC receives an approximately equal amount of funding from CDC to establish its core capacity and support a core research project as well as training and evaluation activities. Research foci reflect each PRC's area of expertise and the needs of the community. Health disparities and goals outlined in Healthy People 2020 are a particular emphasis for most PRC core research.

CDC is currently approved to collect performance information from PRCs through a web-based survey and telephone interview (OMB #0920-0650, exp. 6/30/2013). The web-based survey is designed to collect information on the PRCs' collaborations with health departments; formal training programs and other training activities; and other funded prevention research projects conducted separately from their core research. A structured telephone interview with a key PRC informant obtains information on systems and environmental changes in which PRCs are involved. The content of the information collection is guided by a set of performance indicators developed (2002) and later revised (2009) in collaboration with the PRCs.

CDC will request OMB approval to continue collecting performance information from PRCs for three years, with some changes. In this revision, CDC requests OMB approval to (1) Continue using a web-based survey and telephone interview for data collection, (2) change the platform of the web-based survey, (3) decrease the data collection burden for each PRC by decreasing the number of questions collected on an annual basis, and (4) revise some questions for clarity or to reflect the current needs and priorities of the program.

CDC will continue to use the information reported by PRCs to identify training and technical assistance needs, respond to requests for information from Congress and other sources, monitor grantees' compliance with cooperative agreement requirements, evaluate progress made in achieving goals and objectives, and describe the impact and effectiveness of the PRC Program.

There is no change in the number of respondents (37). Each PRC program will report the required information to CDC once per year. The estimated burden per response for the web-based survey will decrease from six hours to five hours, and the estimated burden per response for each telephone interview will decreased from one hour to 30 minutes. There are no costs to respondents other than their time.

Estimated Annualized Burden Hours
Type of respondent | Form name | Number of respondents | Number of responses per respondent | Average burden per response (in hours) | Total burden (in hours)
PRC Program | Survey | 37 | 1 | 5 | 185
| Telephone Interview | 37 | 1 | 30/60 | 19
Total |  |  |  |  | 204

Dated: December 10, 2012.
Ron A. Otten,
Director, Office of Scientific Integrity (OSI), Office of the Associate Director for Science (OADS), Office of the Director.

[FR Doc. 2012-30180 Filed 12-13-12; 8:45 am]

BILLING CODE 4163-18-P